OFFICE OF PERSONNEL MANAGEMENT

Excepted Service; November 2017

AGENCY: Office of Personnel Management (OPM).

ACTION: Notice.

SUMMARY: This notice identifies Schedule A, B, and C appointing authorities applicable to a single agency that were established or revoked from November 1, 2017 to November 30, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A Authorities to report during November 2017.

Schedule B

No schedule B Authorities to report during November 2017.

Schedule C

The following Schedule C appointing authorities were approved during November 2017.

Agency name | Organization name | Position title | Authorization No. | Effective date
DEPARTMENT OF AGRICULTURE | Farm Service Agency | State Executive Director | DA180009 | 11/08/2017
|  |  | DA180024 | 11/03/2017
|  |  | DA180066 | 11/06/2017
|  |  | DA180073 | 11/13/2017
|  | State Executive Director—Kansas | DA170197 | 11/03/2017
|  | State Executive Director—Idaho | DA180044 | 11/03/2017
|  | State Executive Director—New York | DA180058 | 11/03/2017
|  | State Executive Director—Oregon | DA180059 | 11/03/2017
|  | State Executive Director—Tennessee | DA180061 | 11/03/2017
|  | State Executive Director—California | DA180062 | 11/06/2017
|  | State Executive Director—Utah | DA180065 | 11/06/2017
|  | State Executive Director—North Dakota | DA180067 | 11/06/2017
|  | State Executive Director—Nebraska | DA180068 | 11/06/2017
|  | State Executive Director—Ohio | DA180004 | 11/09/2017
|  | State Director—New Jersey | DA180077 | 11/09/2017
|  | State Executive Director—Vermont | DA180085 | 11/09/2017
|  | State Executive Director—Pennsylvania | DA180086 | 11/09/2017
|  | State Executive Director—South Dakota | DA180075 | 11/13/2017
|  | State Executive Director—Hawaii | DA180084 | 11/13/2017
|  | State Executive Director—Wyoming | DA180091 | 11/13/2017
|  | State Executive Director—Illinois | DA180092 | 11/13/2017
|  | State Executive Director—Alabama | DA180049 | 11/27/2017
|  | State Executive Director, North Carolina | DA180070 | 11/29/2017
| Office of the Assistant Secretary for Congressional Relations | Special Assistant Staff Assistant | DA180056 DA180053 | 11/03/2017 11/29/2017
| Office of the Under Secretary for Marketing and Regulatory Programs | Confidential Assistant | DA180093 | 11/29/2017
| Rural Housing Service | State Director—Maine | DA180030 | 11/01/2017
|  | State Director—Tennessee | DA180048 | 11/03/2017
|  | State Director—Kansas | DA180060 | 11/03/2017
|  | State Director—California | DA180063 | 11/06/2017
|  | State Director | DA180064 | 11/06/2017
|  | State Director—Utah | DA180069 | 11/06/2017
|  | State Director—South Carolina | DA180071 | 11/06/2017
|  | State Director—Nebraska | DA180050 | 11/07/2017
|  | State Director—Alabama | DA180057 | 11/07/2017
|  | State Director—Texas | DA170203 | 11/09/2017
|  | State Director—New Mexico | DA180018 | 11/09/2017
|  | State Director—North Carolina | DA180072 | 11/09/2017
|  | State Director—Florida | DA180074 | 11/09/2017
|  | State Director—Vermont, New Hampshire | DA180076 | 11/09/2017
|  | State Director—Indiana | DA180078 | 11/09/2017
|  | State Director—Hawaii | DA180079 | 11/09/2017
|  | State Director—Oklahoma | DA180080 | 11/09/2017
|  | State Director—Ohio | DA180081 | 11/09/2017
|  | State Director—South Dakota | DA180083 | 11/09/2017
|  | State Director—Wisconsin | DA180087 | 11/09/2017
|  | State Director—Virginia | DA180088 | 11/09/2017
|  | State Director—Illinois | DA180090 | 11/13/2017
|  | State Director—North Dakota | DA180089 | 11/16/2017
|  | Senior Advisor | DA180095 | 11/27/2017
DEPARTMENT OF COMMERCE | Director General of the United States and Foreign Commercial Service and Assistant Secretary for Global Markets | Senior Director | DC180011 | 11/03/2017
| Office of Advocacy Center | Policy Assistant | DC180009 | 11/14/2017
| Office of Under Secretary | Special Advisor | DC180052 | 11/27/2017
DEPARTMENT OF DEFENSE | Office of the Assistant Secretary of Defense (International Security Affairs) | Special Assistant for Middle East | DD180004 | 11/01/2017
| Washington Headquarters Services | Defense Fellow | DD180017 | 11/02/2017
| Office of the Under Secretary of Defense (Policy) | Special Assistant, Defeat Islamic State of Iraq and Syria Task Force | DD180013 | 11/06/2017
| Office of the Secretary of Defense | Protocol Officer (2) | DD180015 DD180018 | 11/09/2017 11/15/2017
DEPARTMENT OF THE AIR FORCE | Office of the Secretary Office of the Under Secretary | Special Assistant Special Assistant | DF180005 DF180004 | 11/03/2017 11/09/2017
DEPARTMENT OF EDUCATION | Office of the Secretary | Executive Director, Executive Director, White House Initiative on Asian Americans and Pacific Islanders | DB180009 | 11/03/2017
|  | Confidential Assistant (2) | DB180010 DB180011 | 11/09/2017 11/09/2017
|  | Special Assistant | DB180003 | 11/20/2017
| Office of Communications and Outreach | Special Assistant | DB180014 | 11/13/2017
DEPARTMENT OF ENERGY | Office of the Secretary of Energy Advisory Board | Director, Office of Secretarial Boards and Councils | DE180006 | 11/02/2017
| Office of the Under Secretary | Chief of Staff | DE180012 | 11/09/2017
|  | Special Assistant | DE180014 | 11/20/2017
| Office of Science | Physical Scientist (Senior Advisor) | DE180016 | 11/29/2017
ENVIRONMENTAL PROTECTION AGENCY | Office of Public Affairs | Press Secretary (2) | EP180004 EP180006 | 11/09/2017 11/20/2017
| Office of the Chief Financial Officer | Special Advisor for Budgets and Audits | EP180013 | 11/09/2017
| Office of Region 10—Seattle, Washington | Senior Advisor for Public Engagement | EP180008 | 11/29/2017
| Office of Region 2—New York, New York | Special Assistant | EP180015 | 11/29/2017
EXPORT-IMPORT BANK | Office of the Chairman | Senior Advisor for Governmental Affairs | EB180002 | 11/20/2017
GENERAL SERVICES ADMINISTRATION | Office of the Administrator Office of Congressional and Intergovernmental Affairs | White House Liaison Deputy Associate Administrator for Congressional and Intergovernmental Affairs | GS180003 GS180005 | 11/13/2017 11/20/2017
| Office of the Heartland Region | Senior Advisor | GS180004 | 11/22/2017
DEPARTMENT OF HEALTH AND HUMAN SERVICES | Office of the Assistant Secretary for Health | Deputy Chief of Staff | DH180010 | 11/01/2017
| Office of the Assistant Secretary for Legislation | Advisor | DH180007 | 11/03/2017
| Office of Intergovernmental and External Affairs | Liaison Regional Director, Chicago, Illinois—Region V | DH180012 DH180011 | 11/03/2017 11/07/2017
| Office of Food and Drug Administration | Senior Advisor | DH180004 | 11/07/2017
| Office of the Assistant Secretary for Public Affairs | Deputy Director of Communications | DH180016 | 11/29/2017
DEPARTMENT OF HOMELAND SECURITY | Office of the Assistant Secretary for Policy | Confidential Assistant Special Assistant | DM180013 DM180015 | 11/01/2017 11/02/2017
| Office of the Assistant Secretary for Public Affairs | Assistant Press Secretary | DM180025 | 11/01/2017
| Office of the Chief of Staff | Advance Representative | DM180021 | 11/09/2017
DEPARTMENT OF HOUSING AND URBAN DEVELOPMENT | Office of Field Policy and Management | Regional Administrator | DU180008 | 11/09/2017
DEPARTMENT OF THE INTERIOR | Office of Secretary's Immediate Office | Senior Counsel | DI180008 | 11/20/2017
| Assistant Secretary—Policy, Management and Budget | Field Coordinator | DI180009 | 11/20/2017
| Assistant Secretary—Indian Affairs | Counsel | DI180010 | 11/29/2017
DEPARTMENT OF JUSTICE | Office of Civil Rights Division | Senior Counsel | DJ170173 | 11/02/2017
| Office of National Security Division | Counsel | DJ180003 | 11/09/2017
| Office of the Attorney General | Special Assistant | DJ180025 | 11/09/2017
| Office of Justice Programs | Confidential Assistant | DJ180019 | 11/17/2017
| Office of Legal Policy | Counsel | DJ180027 | 11/20/2017
| Office of Legislative Affairs | Attorney Advisor and Intergovernmental Liaison | DJ180024 | 11/22/2017
DEPARTMENT OF LABOR | Office of the Secretary | Special Assistant (2) | DL170121 DL170110 | 11/02/2017 11/09/2017
| Office of Federal Contract Compliance Programs | Senior Advisor | DL170102 | 11/09/2017
| Office of Congressional and Intergovernmental Affairs | Confidential Assistant Chief of Staff | DL180017 DL180014 | 11/29/2017 11/09/2017
| Office of Employment and Training Administration | Senior Policy Advisor | DL180009 | 11/13/2017
NATIONAL AERONAUTICS AND SPACE ADMINISTRATION | Office of Communications | Social Media Specialist | NN180004 | 11/29/2017
NATIONAL ENDOWMENT FOR THE ARTS | National Endowment for the Arts | Public Affairs Specialist | NA180001 | 11/20/2017
OCCUPATIONAL SAFETY AND HEALTH REVIEW COMMISSION | Occupational Safety and Health Review Commission | Confidential Assistant | SH170006 | 11/09/2017
| Office of Commissioners | Counsel | SH180001 | 11/09/2017
OFFICE OF MANAGEMENT AND BUDGET | Office of the Director | Confidential Assistant | BO180001 | 11/14/2017
SMALL BUSINESS ADMINISTRATION | Office of Administration Office of Capital Access | Management Support Specialist Senior Advisor | SB180006 SB180001 | 11/03/2017 11/06/2017
| Office of Communications and Public Liaison | Senior Advisor | SB180008 | 11/20/2017
| Office of Field Operations | Regional Administrator for Region X | SB170045 | 11/22/2017
|  | Regional Administrator, Region VIII | SB180004 | 11/22/2017
|  | Regional Administrator, Region VII | SB180005 | 11/22/2017
|  | Regional Administrator V | SB180007 | 11/22/2017
DEPARTMENT OF STATE | Bureau of Near Eastern Affairs | Deputy Assistant Secretary | DS170205 | 11/07/2017
| Office of Policy Planning | Special Assistant | DS180003 | 11/16/2017
| Bureau of Legislative Affairs | Special Assistant | DS180004 | 11/16/2017
| Bureau of Arms Control, Verification, and Compliance | Special Assistant | DS180006 | 11/16/2017
DEPARTMENT OF THE TREASURY | Assistant Secretary (Public Affairs) | Press Assistant | DY170178 | 11/14/2017

The following Schedule C appointing authorities were revoked during November 2017.

Agency name | Organization name | Position title | Request No. | Date vacated
COMMODITY FUTURES TRADING COMMISSION | Office of the Chairperson | Public Affairs Specialist (Speechwriter) | CT170001 | 11/11/2017
| Office of Public Affairs | Administrative Assistant | CT140009 | 11/25/2017
DEPARTMENT OF COMMERCE | Office of Business Liaison | Special Assistant | DC170082 | 11/11/2017
| Office of the Chief of Staff | Special Assistant to the Chief of Staff | DC170124 | 11/25/2017
| Office of the Secretary | Confidential Assistant | DC170126 | 11/25/2017
DEPARTMENT OF ENERGY | Office of the Secretary of Energy Advisory Board | Deputy Director, Office of Secretarial Boards and Councils | DE170142 | 11/11/2017
| Office of Assistant Secretary for Energy Efficiency and Renewable Energy | Senior Advisor for External Affairs | DE170119 | 11/14/2017
DEPARTMENT OF HEALTH AND HUMAN SERVICES | Office of the Secretary | Special Assistant to the Chief of Staff | DH170112 | 11/02/2017
| Office of the Assistant Secretary for Health | Associate Director for Policy | DH170094 | 11/11/2017
| Office of the Assistant Secretary for Public Affairs | Special Advisor | DH170088 | 11/11/2017
| Office of Intergovernmental and External Affairs | Special Assistant | DH170199 | 11/21/2017
| Office of Health Reform | Senior Policy Advisor | DH170141 | 11/26/2017
DEPARTMENT OF JUSTICE | Office of Environment and Natural Resources Division | Special Assistant and Counsel | DJ170106 | 11/25/2017
DEPARTMENT OF THE TREASURY | Department of the Treasury | Deputy Executive Secretary | DY170105 | 11/12/2017
DEPARTMENT OF TRANSPORTATION | Immediate Office of the Administrator | Director of Governmental, International and Public Affairs | DT170085 | 11/25/2017
| Office of the Secretary | White House Liaison | DT170048 | 11/25/2017

Authority: 5 U.S.C. 3301 and 3302; E.O. 10577, 3 CFR, 1954-1958 Comp., p. 218.

Office of Personnel Management.
Kathleen M. McGettigan,
Acting Director.

[FR Doc. 2018-05032 Filed 3-12-18; 8:45 am]

BILLING CODE 6325-39-P